DEPARTMENT OF ENERGY

Federal Energy Regulatory Commission

[Docket No. CP03-32-000]

Northwest Pipeline Corporation; Notice of Application

December 30, 2002.

Take notice that on December 23, 2002 Northwest Pipeline Corporation (Northwest), 295 Chipeta Way, Salt Lake City, Utah, 84158 filed in Docket No. CP03-32-000, an abbreviated application pursuant to sections 7(b) and 7(c) of the Natural Gas Act for its “White River Pipeline Replacement Project” requesting the Commission to grant:

(i) A certificate of public convenience and necessity authorizing Northwest to construct and operate approximately 4,300 feet each of relocated replacement 26-inch pipeline and 30-inch pipeline loop in King County, Washington;

(ii) approval for Northwest to abandon, partially by removal and partially in place, approximately 3,300 feet each of 26-inch pipeline and 30-inch pipeline loop being replaced by the relocated facilities; and

(iii) approval to remove 665 feet of 26-inch pipeline crossing the White River that was previously retired in place.

All as more fully set forth in its petition which is on file with the Commission and open to public inspection. This filing is available for review at the Commission in the Public Reference Room or may be viewed on the Commission's Web site at http://www.ferc.gov using the “FERRIS” link. Enter the docket number excluding the last three digits in the docket number field last three digits in the docket number field to access the document. For assistance, please contact FERC Online Support at FERCOnlineSupport@ferc.gov or toll-free at (866)208-3676, or for TTY, contact (202)502-8659.

Any questions regarding this application should be directed to Gary Kotter, Manager, Certificates and Tariffs, at (801) 584-7117, Northwest Pipeline Corporation, P.O. Box 58900, Salt Lake City, Utah 84158.

Northwest states that as a result of high flows and erosion in the White River over the past several years it has installed temporary structures and sheet piling to the banks of the river to maintain the integrity of the 26-inch and 30-inch pipeline crossings. Northwest asserts that the proposed replacement project is necessary to provide a more permanent solution for improved pipeline safety and integrity, while restoring the natural environment of the river and floodplains at the pipeline crossing location.

Northwest states that construction of the project is scheduled to occur over a two-year period to accommodate anticipated permitting requirements and environmental limitations on construction windows. Northwest plans to commence construction during the summer of 2003 and complete the project in the fall of 2004.

The estimated cost of the proposed project is approximately $29.4 million.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made in the proceeding. with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentator will be placed on the Commission's environmental mailing list, will receive copies of the environmental documents, and will be notified of meetings associated with the Commission's environmental review process. Environmental commentator will not be required to serve copies of filed documents on all other parties. However, the non-party commentator will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Protests and interventions may be filed electronically via the Internet in lieu of paper; see 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a certificate will be issued.

Comment Date: January 21, 2003.

Linwood A. Watson, Jr.,
Deputy Secretary.

[FR Doc. 03-126 Filed 1-3-03; 8:45 am]

BILLING CODE 6717-01-P